SECURITIES AND EXCHANGE COMMISSION

Sunshine Act Meeting

Notice is hereby given, pursuant to the provisions of the Government in the Sunshine Act, Public Law 94-409, that the Securities and Exchange Commission will hold a Fintech Forum on Monday, November 14, 2016, in the Auditorium, Room L-002. The meeting will begin at 9:00 a.m. ET. and will be open to the public. Seating will be on a first-come, first served basis. Doors will be open at 7:45 a.m. ET. Visitors will be subject to security checks. The forum will be webcast on the Commission's Web site at www.sec.gov and will be archived for later viewing.

The agenda for the forum will discuss financial technology innovation in the financial services industry. Panelists will be invited to discuss issues such as blockchain technology, automated investment advice or robo-advisors, online marketplace lending and crowdfunding, and how they may impact investors.

This Sunshine Act notice is being issued because a majority of the Commission may attend the meeting.

For further information, please contact Brent J. Fields from the Office of the Secretary at (202) 551-5400.

Dated: November 7, 2016.
Brent J. Fields,
Secretary.

[FR Doc. 2016-27247 Filed 11-8-16; 11:15 am]

BILLING CODE 8011-01-P